Proclamation 10196 of April 30, 2021

Public Service Recognition Week, 2021

By the President of the United States of America

A Proclamation

In the face of unprecedented challenges this past year, America's dedicated public servants have risen to the moment—bringing strength, healing, and hope to their communities and to our Nation. Our public servants are a living reminder that, here in America, we take care of one another and leave no one behind. As we work to defeat the pandemic and rebuild our economy, it is more important than ever to recognize and reflect upon both our collective loss and our collective resilience. During Public Service Recognition Week, we celebrate and thank our public servants at the local, State, and Federal levels who exemplify dedication to the common good.

Public servants are the lifeblood of our democracy. They are our researchers and scientists, our front-line workers, our educators, our first responders, our election officials, and our military service members—among countless others. They are ordinary Americans who answer the call to do extraordinary things, giving their time—and, in some cases, risking or giving their lives—to make life better for all of us.

Throughout this week and beyond, my Administration will be shining a light on the individual and collective efforts of public servants at the local, State, Tribal, and Federal levels who unite us and help lead us through challenging times. In the toughest of circumstances and often at great personal sacrifice, our public servants tackle the most complex problems facing our communities. Whether developing public health guidance and working across agencies to safely reopen schools during the pandemic, partnering with the private sector to develop and distribute vaccines, keeping small businesses dreams alive, or combating natural disasters in their hometowns, public servants demonstrate their commitment to our Nation every day. It is our responsibility, in turn, to ensure that they are honored and protected.

Since taking office earlier this year, I have made it the policy of the United States to protect, empower, and rebuild the career Federal workforce. My Administration made employee safety a priority—directing agencies to create COVID-19 workplace safety plans and require mask-wearing, physical distancing, and other public health measures in Federal buildings and on Federal lands. I revoked several Executive Orders that undermined the foundations of civil service, worked to ensure the right of Federal employees to engage in collective bargaining, and created a new interagency task force to ensure that Federal employees engaged in scientific research and data collection are never subjected to political interference.

In addition, I have strengthened protections against discrimination for Federal employees, including discrimination on the basis of gender identity or sexual orientation. I have also asked the Director of the Office of Personnel Management to provide me with recommendations to promote a $15 per hour minimum wage for Federal employees, as well as recommendations for expanding the Federal Government's policy of providing employees time off to vote. And this week, I signed an Executive Order that will increase the minimum wage for employees working on Federal contracts to $15 per hour.

Together, as we strive to build, support, and continuously improve our public workforce, we recognize and celebrate the indispensable contributions our public servants make while protecting our communities, taking care of our neighbors, and helping us heal and build back better. It is the honor of my lifetime to serve our Nation alongside our public servants, who work tirelessly to improve the lives of Americans and people around the globe.

NOW, THEREFORE, I, JOSEPH R. BIDEN JR., President of the United States of America, by virtue of the authority vested in me by the Constitution and the laws of the United States, do hereby proclaim May 2 through May 8, 2021, as Public Service Recognition Week. I call upon all Americans to celebrate public servants and their contributions this week and throughout the year.

IN WITNESS WHEREOF, I have hereunto set my hand this thirtieth day of April, in the year of our Lord two thousand twenty-one, and of the Independence of the United States of America the two hundred and forty-fifth.

[FR Doc. 2021-09593

Filed 5-4-21; 8:45 am]

Billing code 3295-F1-P